DEPARTMENT OF LABOR

Employment and Training Administration

[TA-W-81,317]

Dana Holding Corporation; Power Technologies Group Division; Including On-Site Leased Workers From Manpower Milwaukee, WI; Notice of Revised Determination on Reconsideration

On August 8, 2012, the Department of Labor issued a Notice of Affirmative Determination Regarding Application for Reconsideration applicable to workers and former workers of Dana Holding Company, Power Technologies Group Division, Milwaukee, Wisconsin (subject firm). The worker group includes on-site leased workers from Manpower. The subject worker group includes workers engaged in activities related to the production of gaskets. The reconsideration investigation revealed that the subject workers do not produce exhausts.

Section 222(a)(1) has been met because a significant number or proportion of the workers in the subject firm have become totally or partially separated, or are threatened with such separation.

Based on information provided during the reconsideration investigation, the Department determines that worker separations at the subject firm are related to a shift in a portion of the production of gaskets (or like or directly competitive articles) to a foreign country and that the shift in the production of these articles contributed importantly to worker separations at the subject firm.

Conclusion

After careful review of the additional facts obtained during the reconsideration investigation, I determine that workers of Dana Holding Company, Power Technologies Group Division, Milwaukee, Wisconsin, who were engaged in employment related to the production of gaskets, meet the worker group certification criteria under Section 222(a) of the Act, 19 U.S.C. 2272(a). In accordance with Section 223 of the Act, 19 U.S.C. 2273, I make the following certification:

All workers of Dana Holding Company, Power Technologies Group Division, including on-site leased workers from Manpower, Milwaukee, Wisconsin who became totally or partially separated from employment on or after February 8, 2011, through two years from the date of certification, and all workers in the group threatened with total or partial separation from employment on the date of certification through two years from the date of certification, are eligible to apply for adjustment assistance under Chapter 2 of Title II of the Trade Act of 1974, as amended.

Signed at Washington, DC, this 20th day of November, 2012.
Elliott S. Kushner,
Certifying Officer, Office of Trade Adjustment Assistance.

[FR Doc. 2013-00097 Filed 1-7-13; 8:45 am]

BILLING CODE 4510-FN-P